SMALL BUSINESS ADMINISTRATION

13 CFR Part 121

RIN 3245-AF22

Small Business Size Standards; Selected Size Standards Issues

AGENCY: Small Business Administration.

ACTION: Advance notice of proposed rulemaking; extension of comment period.

SUMMARY: The U.S. Small Business Administration (SBA) is extending the deadline for comments on the Advanced Notice of Proposed Rulemaking (ANPRM), which requested comments on issues related to SBA's effort to restructure its small business size standards, for 60 days because SBA agrees with the public's view that an extension is necessary to afford interested parties more time to thoroughly review the issues described in the ANPRM and prepare their comments. The previous deadline of February 1, 2005 is extended to April 3, 2005.

DATES: Comments must be received on or before April 3, 2005.

ADDRESSES: You may submit comments, identified by RIN 3245-AF22, by any of the following methods:

• Federal eRulemaking Portal: http://www.regulations.gov. Follow the instructions for submitting comments.

• E-mail: restructure.sizestandards@sba.gov. Include RIN 3245-AF22 in the subject line of the message.

• Fax: (202) 205-6390.

• Mail: Gary M. Jackson, Assistant Administrator for Size Standards, 409 Third Street, SW., Washington, DC 20416.

• Hand Delivery/Courier: Gary M. Jackson, Assistant Administrator for Size Standards, 409 Third Street, SW., Washington, DC 20416.

Upon receipt of a written request, SBA will make available public comments to the requestor, subject to the Freedom of Information Act.

FOR FURTHER INFORMATION CONTACT: SBA's Office of Size Standards, (202) 205-6618, or sizestandards@sba.gov.

SUPPLEMENTARY INFORMATION: On March 19, 2004, SBA published a proposed rule to restructure its small business size standards by establishing them based primarily on the number of employees of a business concern and by limiting to 10 the number of different size standard levels (69 FR 13130). Although a majority of the more than 4,000 comments on the proposed changes expressed support for the proposal, SBA also received a large number of comments opposing various aspects of SBA's approach to simplifying size standards. As a result, SBA withdrew the proposal on July 1, 2004 (69 FR 39874).

On December 3, 2004, SBA published an ANPRM seeking comments from the public on several issues that were raised during the public comment period for the proposed rule (69 FR 70197). Specifically, the ANPRM sought comments on the approach to simplify size standards, the calculation of number of employees (including how SBA defines an employee for size purposes), the use of receipts-based size standards, the designation of size standards for Federal procurements, the establishment of size standards for use solely in Federal procurement programs, the establishment of tiered size standards, the simplification of affiliation regulations, the simplification of small business joint venture eligibility regulations, the grandfathering of small business eligibility, and the impact of SBA size standards on the regulations of other Federal agencies. The deadline for comments on the ANPRM was February 1, 2005.

SBA has received hundreds of comments on these issues. SBA has also received requests from the public for an extension of the comment period to afford interested parties more time to thoroughly review the issues described in the ANPRM and prepare their comments. Given the scope and nature of size standard issues, SBA agrees that it is in the public interest to provide additional time for preparation of comments, which SBA will consider as part of its deliberations on restructuring size standards. Therefore, SBA is extending the comment period for 60 days, from February 1, 2005 to April 3, 2005.

Dated: January 13, 2005.
Allegra F. McCullough,
Associate Deputy Administrator for Government Contracting and Business Development.

[FR Doc. 05-1035 Filed 1-18-05; 8:45 am]

BILLING CODE 8025-01-P